DEPARTMENT OF THE INTERIOR

National Park Service

Revised Environmental Assessment (EA) U.S. Park Police Aviation Section Hangar and Fuel System Improvements—National Capital Parks-East

AGENCY: National Park Service, Interior.

ACTION: Notice of availability of revised Environmental Assessment.

SUMMARY: U.S. Park Police (USPP), a Federal law enforcement organization within the U.S. Department of the Interior, National Park Service, is considering expanding the hangar, replacing its fuel delivery system, and reducing the paved area of its aviation facility. This notice announces availability for public review of a revised EA for this proposal, the EA having been revised as a result of comments submitted by the public during a 1999 public comment period on the proposal.

NPS now makes this revised EA available to the public for thirty days from the publication date of this notice. Anyone may submit a written comment. Any written comments NPS receives during this review will be considered prior to making a decision and finding on this EA. Commenters are advised that, if requested, the National Park Service is required to supply to any requester, the names and addresses of individuals providing comments. This EA analysis and its public availability are pursuant to the National Environmental Policy Act, and its regulations, and NPS authorities and guidance.

The EA may be obtained by contacting Robert Stratton, USPP—202/205-4356 or Michael Wilderman, National Capital Parks-East—202/690-5165.

SUPPLEMENTARY INFORMATION: The U.S. Park Police (USPP) provides the only law enforcement and rescue helicopter services in Washington, D.C. USPP needs to house an additional helicopter, acquired to ensure full-time emergency services, and upgrade its existing fuel delivery system so as to enhance the safety of those who work at the aviation facility and those individuals it serves, and to provide additional environmental safeguards. The number of flights is not increasing as a result of this proposal. The level of noise and the air quality will not change, however approximately ¾ of an acre of paved surface will be restored to grass.

As part of its decision-making process, an EA was developed in 1999. This EA contained two alternatives: a no action and a preferred alternative. Because NPS recognizes the value of public review and comment of its proposals, this EA was made available for public review in 1999. Although very few comments were received, as a result of the comments submitted by the public both during and after the commenter period, NPS revised its EA in order to consider the ideas raised by the public. The revised EA which is now available for public review and comment, contains three alternatives: a no action; an action; and a preferred alternative, along with three alternatives considered but rejected because they were unreasonable, unworkable, or not permitted.

For further information, contact the National Capital Parks-East public information officer at (202) 690-5185.

Dated: August 23, 2000.
John Hale,
Superintendent, National Capital Parks-East.

[FR Doc. 00-21968 Filed 8-28-00; 8:45 am]

BILLING CODE 4310-70-M